DEPARTMENT OF DEFENSE

Office of the Secretary

[Transmittal No. 25-16]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-16, Policy Justification, and Sensitivity of Technology.

Dated: January 7, 2026.
Stephanie J. Bost,
Alternate OSD Federal Register Liaison Officer, Department of Defense.

BILLING CODE 6001-FR-P

BILLING CODE 6001-FR-C

Transmittal No. 25-16

Notice of Proposed Issuance of Letter of Offer Pursuant to Section 36(b)(1) of the Arms Export Control Act, as amended

(i) Prospective Purchaser: Government of Qatar

(ii) Total Estimated Value:

Major Defense Equipment * | $0.34 billion
Other | $1.62 billion
TOTAL | $1.96 billion

Funding Source: National Funds

(iii) Description and Quantity or Quantities of Articles or Services under Consideration for Purchase:

Major Defense Equipment (MDE):

Eight (8) MQ-9B Remotely Piloted Aircraft (RPA)

Two hundred (200) KMU-572 Joint Direct Attack Munition (JDAM) tail kits for Guided Bomb Unit (GBU)-38 or Laser JDAM GBU-54

Three hundred (300) BLU-111 500-lb general purpose bombs

One hundred (100) MXU-650 air foil groups (AFG) for Paveway II GBU-12

One hundred (100) MAU-169 computer control groups (CCG) for Paveway II GBU-12

Twenty-eight (28) Embedded Global Positioning System (GPS)/Inertial Navigation System (INS) (EGI) security devices with M-Code

Twelve (12) EGI security devices with Selective Availability Anti-Spoofing Modules (SAASM)

Ten (10) Lynx AN/APY-8 Synthetic Aperture Radars (SAR)

Ten (10) L3 Rio Grande communications intelligence (COMINT) sensor suites

One hundred ten (110) AGM-114R2 Hellfire II missiles

Eight (8) M36E9 Hellfire Captive Air Training Missiles (CATM)

Non-Major Defense Equipment:

The following non-MDE items will also be included: Honeywell TPE-331 turboprop engines; Certifiable Ground Control Stations (CGCS); FMU-139D/B fuze systems; DSU-38 laser illuminated target detectors for GBU-54; KY-100M narrowband/wideband terminals; AN/PYQ-10 Simple Key Loaders (SKLs); Keying Identification Verification (KIV)-77 Mode 5 Identification Friend or Foe (IFF) cryptographic appliques; Intrusion Prevention System (IPS)-250X High Assurance internet Protocol Encryptor (HAIPE) Type 1 cryptographic communications security (COMSEC) devices; Cryptographic Core Modernization (CCM)-700A Type 1 COMSEC chips; AN/DPX-7 IFF transponders; Link-16 KOR-24A Small Tactical Terminals (STTs); Semi-Automatic Ground Environment (SAGE) Electronic Surveillance Measure systems; AE-4500 Electronic Support Measure; Compact Multi-band Data Link (CMDL); Remotely Operated Video Enhanced Receiver (ROVER) 6Si compatible systems; Common Munitions Built-in-Test Reprogramming Equipment (CMBRE) Plus Block II; Mayflower Multi-Platform Anti-Jam GPS Navigation Antennas (MAGNA)-I, AS-4841; imaging systems; Electro-Optical/Infrared (E.O./IR) Multi-Spectrum Targeting System (MTS); Active Electronically Scanned Array (AESA) radars (SeaSpray 7500 maritime radars); Due Regard Radar (DRR); Automatic Information System (AIS) transponders; Rohde & Schwartz Ultra High Frequency (UHF)/Very High Frequency (VHF) radios; satellite communications (SATCOM) ground station antennas, modems, and terminals with Unifi Security Gateway (USG) encryption; Ku-Band SATCOM GA-ASI Transportable Earth Stations (GATES); secure SATCOM systems; DSU-33D/B bomb components; M299 Longbow Hellfire launchers; weapons loading equipment; spare and repair parts, consumables and accessories, and repair and return support; weapons integration; support and test equipment; facilities and construction support; publications and technical documentation; personnel training and training equipment; transportation and airlift support; studies and surveys; U.S. Government and contractor engineering, technical, and logistics support services; and other related elements of logistics and program support.

(iv) Military Department: Air Force (QA-D-SAA)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: March 26, 2025

* as defined in Section 47(6) of the Arms Export Control Act.

POLICY JUSTIFICATION

Qatar—MQ-9B Remotely Piloted Aircraft

The Government of Qatar has requested to buy eight (8) MQ-9B Remotely Piloted Aircraft (RPA); two hundred (200) KMU-572 Joint Direct Attack Munition (JDAM) tail kits for Guided Bomb Unit (GBU)-38 or Laser JDAM GBU-54; three hundred (300) BLU-111 500-lb general purpose bombs; one hundred (100) MXU-650 air foil groups (AFG) for Paveway II GBU-12; one hundred (100) MAU-169 computer control groups (CCG) for Paveway II GBU-12; twenty-eight (28) Embedded Global Positioning System (GPS)/Inertial Navigation System (INS) (EGI) security devices with M-Code; twelve (12) EGI security devices with Selective Availability Anti-Spoofing Modules (SAASM); ten (10) Lynx AN/APY-8 Synthetic Aperture Radars (SAR); ten (10) L3 Rio Grande communications intelligence (COMINT) sensor suites; one hundred ten (110) AGM-114R2 Hellfire II missiles; and eight (8) M36E9 Hellfire Captive Air Training Missiles (CATM). The following non-MDE items will also be included: Honeywell TPE-331 turboprop engines; Certifiable Ground Control Stations (CGCS); FMU-139D/B fuze systems; DSU-38 laser illuminated target detectors for GBU-54; KY-100M narrowband/wideband terminals; AN/PYQ-10 Simple Key Loaders (SKLs); Keying Identification Verification (KIV)-77 Mode 5 Identification Friend or Foe (IFF) cryptographic appliques; Intrusion Prevention System (IPS)-250X High Assurance internet Protocol Encryptor (HAIPE) Type 1 cryptographic communications security (COMSEC) devices; Cryptographic Core Modernization (CCM)-700A Type 1 COMSEC chips; AN/DPX-7 IFF transponders; Link-16 KOR-24A Small Tactical Terminals (STTs); Semi-Automatic Ground Environment (SAGE) Electronic Surveillance Measure systems; AE-4500 Electronic Support Measure; Compact Multi-band Data Link (CMDL); Remotely Operated Video Enhanced Receiver (ROVER) 6Si compatible systems; Common Munitions Built-in-Test Reprogramming Equipment (CMBRE) Plus Block II; Mayflower Multi-Platform Anti-Jam GPS Navigation Antennas (MAGNA)-I, AS-4841; imaging systems; Electro-Optical/Infrared (E.O./IR) Multi-Spectrum Targeting System (MTS); Active Electronically Scanned Array (AESA) radars (SeaSpray 7500 maritime radars); Due Regard Radar (DRR); Automatic Information System (AIS) transponders; Rohde & Schwartz Ultra High Frequency (UHF)/Very High Frequency (VHF) radios; satellite communications (SATCOM) ground station antennas, modems, and terminals with Unifi Security Gateway (USG) encryption; Ku-Band SATCOM GA-ASI Transportable Earth Stations (GATES); secure SATCOM systems; DSU-33D/B bomb components; M299 Longbow Hellfire launchers; weapons loading equipment; spare and repair parts, consumables and accessories, and repair and return support; weapons integration; support and test equipment; facilities and construction support; publications and technical documentation; personnel training and training equipment; transportation and airlift support; studies and surveys; U.S. Government and contractor engineering, technical, and logistics support services; and other related elements of logistics and program support. The estimated total cost is $1.96 billion.

This proposed sale will support the foreign policy and national security objectives of the United States by helping to improve the security of a friendly country that continues to be an important force for political stability and economic progress in the Middle East.

The proposed sale will improve Qatar's capability to meet current and future threats by providing timely intelligence, surveillance, and reconnaissance, target acquisition, counter-land, and counter-surface sea capabilities for its security and defense. This capability is a deterrent to regional threats and will primarily be used to strengthen its homeland defense. Qatar will have no difficulty absorbing these articles and services into its armed forces.

The proposed sale of this equipment and support will not alter the basic military balance in the region.

The principal contractors will be General Atomics Aeronautical Systems, located in Poway, CA; Lockheed Martin, located in Bethesda, MD; RTX Corporation, located in Waltham, MA; L3Harris, Inc., located in Melbourne, FL; Boeing Corporation, located in Arlington, VA; and Leonardo SpA, located in Rome, Italy. At this time, the U.S. Government is not aware of any offset agreement proposed in connection with this potential sale. Any offset agreement will be defined in negotiations between the purchaser and the contractor.

Implementation of this proposed sale will not require the assignment of any additional U.S. Government or contractor representatives to Qatar.

There will be no adverse impact on U.S. defense readiness as a result of this proposed sale.

Transmittal No. 25-16

Notice of Proposed Issuance of Letter of Offer Pursuant to Section 36(b)(1) of the Arms Export Control Act

Annex

Item No. vii

(vii) Sensitivity of Technology:

1. The MQ-9B Remotely Piloted Aircraft (RPA) is a weapons-ready aircraft designed for Medium-Altitude Long-Endurance intelligence, surveillance, and reconnaissance (ISR), target acquisition, and strike missions. The MQ-9B RPA is not a USAF program of record but has close ties to, and builds upon, the proven success of the MQ-9A Reaper. The MQ-9B is a highly modular, easily configurable aircraft that contains the necessary hard points, power, and data connections to accommodate a variety of payloads and munitions to meet multiple missions—including counter-land, counter-sea, and anti-submarine strike operations. The system is designed to be controlled by two operators within a Certifiable Ground Control Station (CGCS). The MQ-9B is able to operate using a direct line-of-sight (LoS) datalink or beyond line-of-sight (BLoS) through satellite communications (SATCOM). The MQ-9B system can be deployed from a single site that supports launch and recovery, mission control, and maintenance. The system also supports remote-split operations where launch, recovery, and maintenance occur at a forward operating base (FOB) and mission control is conducted from another location or main operating base (MOB).

2. Joint Direct Attack Munitions (JDAM) consist of a bomb body paired with a warhead-specific tail kit containing a Global Positioning System (GPS)/Inertial Navigation System (INS) guidance capability that converts unguided free-fall bombs into accurate, adverse weather “smart” munitions. The JDAM weapon can be delivered from modest standoff ranges at high or low altitudes against a variety of land and surface targets during the day or night. The JDAM can receive target coordinates via preplanned mission data from the delivery aircraft, by onboard aircraft sensors during captive carry, or from a third-party source via manual or automated entry.

a. The Guided Bomb Unit (GBU)-38 is a 500-lb JDAM, consisting of a KMU-572 tail kit and Bomb Live Unit (BLU)-111 or MK-82 bomb body.

b. The GBU-54 Laser Joint Direct Attack Munition (LJDAM) is a 500-lb JDAM which incorporates all the capabilities of the JDAM guidance tail kit and adds a precision laser guidance set. The LJDAM gives the weapon system an optional semi-active laser guidance in addition to the GPS/INS guidance. This provides the optional capability to strike moving targets. The GBU-54 consists of a DSU-38 laser guidance set or a DSU-33D/B proximity sensor and bomb body with appropriate KMU-5XX tail kit.

3. The Paveway II (PWII) is a maneuverable, free-fall laser-guided bomb (LGB) that guides to laser energy reflected off the target. The LGB is delivered like a normal general purpose (GP) warhead, but the semi-active laser guidance corrects many of the normal errors inherent in any delivery system. Laser designation for the LGB can be provided by a variety of laser target markers or designators. The PWII consists of a non-warhead-specific MAU-209 or MAU-169 computer control group (CCG) and a warhead-specific air foil group (AFG) that attaches to the nose and tail of the GP bomb body.

a. The GBU-12 is a 500-lb GP bomb body fitted with the MAU-169 CCG and MXU-650 AFG to guide to its laser designated target.

4. The M-Code capable Embedded Global Positioning System/Inertial Navigation System (GPS/INS) (EGI), with an embedded GPS Precise Positioning Service (PPS) Receiver Application Module-Standard Electronic Module (GRAM-S/M), is a self-contained navigation system that provides acceleration, velocity, position, attitude, platform azimuth, magnetic and true heading, altitude, body angular rates, time tags, and coordinated universal time (UTC) synchronized time. SAASM or M-Code enables the GPS receiver access to the encrypted P(Y) or M-Code signal, providing protection against active spoofing attacks.

a. Mayflower Multi-Platform Anti-Jam GPS Navigation Antenna (MAGNA)-I, AS-4841 is a federated, GPS anti-jam solution. MAGNA-F can provide protected GPS signals to different receivers simultaneously. It protects critical mission systems on the platform and provides unwavering position, navigation, and timing (PNT). It can be used on multiple military and civilian GPS receivers. It is also compatible with Selective Availability Anti-Spoofing Modules (SAASM) and M-Code.

5. The EGI with SAASM—or M-Code receiver when available—and PPS is a self-contained navigation system that provides the following: acceleration, velocity, position, attitude, platform azimuth, magnetic and true heading, altitude, body angular rates, time tags, and coordinated universal time (UTC) synchronized time. SAASM or M-Code enables the GPS receiver access to the encrypted P(Y) or M-Code signal, providing protection against active spoofing attacks.

6. The AN/APY-8 Lynx Synthetic Aperture Radar (SAR) and Ground Moving Target Indicator (GMTI) system provides all-weather surveillance, tracking, and targeting.

7. The L3 Rio Grande communications intelligence sensor suite's capabilities meet rigorous mission requirements for small, manned, and unmanned intelligence, surveillance, and reconnaissance (ISR) platforms. Rio Grande intercepts, locates, monitors, and records communications signals using a common set of software applications. Rio Grande operates on an open architecture design and supports third-party special signals applications, real-time audio recording and playback, and a three-dimensional display of the area of interest.

8. The AGM-114R2 Hellfire II is a missile equipped with a semi-active laser (SAL) seeker that homes in on the reflected light of a laser designator. The AGM-114R can be launched from higher altitudes than previous variants because of its enhanced guidance and navigation capabilities, which include a height-of-burst (HOB)/proximity sensor. The missile has a multipurpose warhead and can destroy hard, soft, and enclosed targets.

a. Captive Air Training Missiles (CATMs) are used to simulate the AGM-114R2 Hellfire missiles and are carried and delivered in the same manner as the Hellfire with identical weight, center of gravity, and overall appearance.

9. The Honeywell TPE-331 is a turboprop engine with power output ranging from 429 to 1,230 kW.

10. The Certifiable Ground Control Station (CGCS) is designed to emulate a reconnaissance aircraft cockpit, giving users extensive means to operate both the aircraft and sensors. It can be fixed or mobile, with either version allowing operators to control and monitor the aircraft, as well as record and exploit downlinked payload data.

11. The FMU-139D/B Joint Programmable Fuze (JPF) is a multi-delay, multi-arm proximity sensor compatible with general purpose blast, frag, and hardened-target penetrator weapons. The JPF settings are cockpit selectable in flight when used with numerous precision-guided weapons.

12. The KY-100M is a cryptographic-modernized lightweight terminal for secure voice and data communications. The KY-100M provides wideband/narrowband half-duplex communication. Operating in tactical ground, marine, and airborne applications, the KY-100M enables secure communication with a broad range of radio and satellite equipment.

13. The AN/PYQ-10 Simple Key Loader (SKL) is a handheld device used for securely receiving, storing, and transferring data between compatible cryptographic and communications equipment.

14. The Keying Identification Verification (KIV)-77 is a cryptographic applique for Identification Friend or Foe (IFF). It can be loaded with Mode 5 classified elements.

15. The Semi-Automatic Ground Environment (SAGE) 750 Electronic Surveillance Measures (ESM) System is a United Kingdom produced digital electronic intelligence (ELINT) sensor which analyzes the electromagnetic spectrum to map the source of active emissions. Using highly accurate direction finding (DF) antennas, SAGE builds target locations and provides situational awareness, advance warning of threats, and the ability to cue other sensors.

16. The SNC 4500 Auto Electronic Surveillance Measures (ESM) System is a digital electronic intelligence (ELINT) sensor which analyzes the electromagnetic spectrum to map the source of active emissions. Using highly accurate Direction Finding (DF) antennas, the SNC 4500 builds target locations and provides situational awareness, advance warning of threats, and the ability to cue other sensors.

17. The L3 Harris Compact Multi-Band Data Link (CMDL) is a miniaturized, high-performance, wideband data link operating in Ku, C, L, or S-band, with both analog and digital waveforms. It is interoperable with military and commercial products including Tactical Common Data Link (TCDL) terminals, the complete line of Remotely Operated Video Enhanced Receiver (ROVER) systems, and coded orthogonal frequency division multiplexing (COFDM) receivers.

18. The L3 Harris ROVER 6Si transceiver provides real-time, full-motion video and other network data for situational awareness, targeting, battle damage assessment, surveillance, relay, convoy over-watch operations, and other situations where eyes-on-target are required. It provides expanded frequencies and additional processing resources from previous ROVER versions, allowing increased levels of collaboration and interoperability with numerous manned and unmanned airborne platforms.

19. Common Munitions Built-In-Test (BIT)/Reprogramming Equipment (CMBRE) is supporting equipment used to interface with weapon systems to initiate and report BIT results and upload/download flight software. CMBRE supports multiple munitions platforms with a range of applications that perform preflight checks, periodic maintenance checks, loading of operational flight program (OFP) data, loading of munitions mission planning data, loading of GPS cryptographic keys, and declassification of munitions memory.

20. The MX-20HD is a gyro-stabilized, multi-spectral, multi-field-of-view Electro-Optical/Infrared (E.O./IR) targeting system. The system provides surveillance laser illumination and laser designation through use of an externally mounted turret sensor unit and internally mounted master control. Sensor video imagery is displayed in the aircraft real time and may be recorded for subsequent ground analysis.

21. The Selex Seaspray is an Active Electronically Scanned Array (AESA) surveillance radar suitable for a range of capabilities from long range search to small target detection.

22. Due Regard Radar (DRR) is a collision avoidance air-to-air radar. DRR is a key component of GA-ASI's overall airborne Detect and Avoid System (DAAS) architecture for MQ-9B. By tracking non-cooperative aircraft, DRR enables a collision avoidance capability onboard the RPA and allows the pilot to separate the aircraft from other air traffic in cooperation with air traffic control.

23. The Automatic Identification System (AIS) transponder provides maritime patrol and search and rescue (SAR) aircraft with the ability to track and identify AIS-equipped vessels over a dedicated very high frequency (VHF) data link. AIS is a key component of any maritime ISR network and offers maritime authorities with the ability to better coordinate air and sea search, rescue, surveillance, and interdiction operations.

24. The Rohde & Schwartz Ultra High Frequency (UHF)/VHF radio is a multi-band, portable, two-way communication radio.

25. The AN/DPX-7 is an IFF transponder used to identify and track aircraft, ships, and some ground forces to reduce friendly fire incidents.

26. The C-Band LoS Ground Data Terminals and Ku-Band SATCOM GA-ASI Transportable Earth Stations (GATES) provide command, control, and data acquisition for the MQ-9.

27. The M299 launcher provides mechanical and electrical interface between the Hellfire missile and aircraft.

28. The KOR-24A Small Tactical Terminal (STT) Link-16 is a command, control communications, and intelligence (C31) system incorporating high-capacity, jam-resistant, digital communication links for exchange of near real-time tactical information, including both data and voice, among air, ground, and sea elements.

29. The Intrusion Prevention System (IPS)-250X is a low-size, weight, and power (SWaP) National Security Agency (NSA)-certified high-speed Internet Protocol (IP) network encryptor.

30. The highest level of classification of defense articles, components, and services included in this potential sale is SECRET.

31. If a technologically advanced adversary were to obtain knowledge of the specific hardware and software elements, the information could be used to develop countermeasures that might reduce system effectiveness or be used in the development of a system with similar or advanced capabilities.

32. A determination has been made that Qatar can provide substantially the same degree of protection for the sensitive technology being released as the U.S. Government. This sale is necessary in furtherance of the U.S. foreign policy and national security objectives outlined in the Policy Justification.

33. All defense articles and services listed in this transmittal have been authorized for release and export to Government of Qatar.

[FR Doc. 2026-00309 Filed 1-9-26; 8:45 am]

BILLING CODE 6001-FR-P